DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on September 5, 2013 (Federal Register/Vol. 78, No. 172/pp. 54729-54730).

DATES: Submit comments to the Office of Management and Budget (OMB) on or before January 27, 2014.

FOR FURTHER INFORMATION CONTACT: Kristie Johnson at the National Highway Traffic Safety Administration, Office of Behavioral Safety Research (NTI-131), W46-198, Department of Transportation, 1200 New Jersey Avenue SE., Washington, DC 20590. Dr. Johnson's phone number is 202-366-2755 and her email address is kristie.johnson@dot.gov.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

SUPPLEMENTARY INFORMATION: Title—NHTSA Distracted Driving Survey Project.

Type of Request—Regular.

OMB Clearance Number—2127-0665.

Form Number—NHTSA Form 1082.

Respondents—Telephone interviews will be administered to a national sample of people 16 and older who have access to a residential landline and/or a personal cell phone.

Estimated Number of Respondents—30 pretest respondents, 6,000 survey respondents, and 200 non-response bias respondents, for up to 2 administrations of the survey for a total of 12,460 respondents.

Estimated Time per Response—20 minutes per pretest and main survey interviews. 10 minutes per non-response interview.

Total Estimated Annual Burden Hours—2,043 hours × 2 administrations (4,086 hours total).

Frequency of Collection—The survey will be administered in 2014 and possibly again in 2016.

Abstract—The National Highway Traffic Safety Administration (NHTSA) proposes to collect information from a national random sample of 6,000 (12,000 total for both administrations) members of the general public age 16 and older. The sample will be stratified by NHTSA region, age, and gender. The National Survey on Distracted Driving Attitudes and Behaviors (NSDDAB) will ask about (a) attitudes, behaviors, and perceptions related to driving distractions and electronic device use while driving, and (b) the effectiveness of high visibility enforcement demonstration programs to increase public awareness of the dangers of, and legislation related to, distracted and unsafe driving behaviors. The national survey will be preceded by a pretest administered to 30 respondents. Interview length will average 20 minutes. This approval will be for the third and fourth administrations of the NSDDAB. Participation by respondents will be voluntary and anonymous. Cell phone and non-response bias respondents will have the option to receive a small monetary incentive. The personally identifiable information (name and mailing address) used for respondent payment will be held separately from the respondents' survey responses so that no connection can be made between the two. All results will be reported in the aggregate.

The telephone interviewers will use computer-assisted telephone interviewing to reduce interview length and minimize recording errors. A Spanish-language translation and bilingual interviewers will be used to minimize language barriers to participation. NHTSA will use the findings from this proposed information collection to build upon and add to the existing knowledge on distracted driving and to help track behavior and attitude changes that can be used to tailor distraction program efforts and to assist States, localities, and communities in developing and refining distracted driving programs.

Comments are Invited on: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Issued on: December 20, 2013.
Jeff Michael,
Associate Administrator, Research and Program Development.

[FR Doc. 2013-30854 Filed 12-24-13; 8:45 am]

BILLING CODE 4910-59-P